DEPARTMENT OF HOMELAND SECURITY

Federal Emergency Management Agency

44 CFR Part 64

[Docket ID FEMA-2012-0003; Internal Agency Docket No. FEMA-8235]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain federal assistance no longer available in SFHAs
Region I
Massachusetts:
Amesbury, City of, Essex County | 250075 | August 7, 1975, Emerg; June 18, 1980, Reg; July 3, 2012, Susp. | July 3, 2012 | July 3, 2012.
Andover, Town of, Essex County | 250076 | February 18, 1972, Emerg; August 1, 1978, Reg; July 3, 2012, Susp. | ......do* | Do.
Beverly, City of, Essex County | 250077 | August 16, 1974, Emerg; March 18, 1986, Reg; July 3, 2012, Susp. | ......do | Do.
Boxford, Town of, Essex County | 250078 | September 15, 1975, Emerg; June 3, 1991, Reg; July 3, 2012, Susp. | ......do | Do.
Danvers, Town of, Essex County | 250079 | July 22, 1975, Emerg; July 2, 1980, Reg; July 3, 2012, Susp. | ......do | Do.
Essex, Town of, Essex County | 250080 | November 14, 1973, Emerg; July 17, 1986, Reg; July 3, 2012, Susp. | ......do | Do.
Georgetown, Town of, Essex County | 250081 | July 31, 1975, Emerg; June 4, 1980, Reg; July 3, 2012, Susp. | ......do | Do.
Gloucester, City of, Essex County | 250082 | December 1, 1972, Emerg; January 17, 1986, Reg; July 3, 2012, Susp. | ......do | Do.
Groveland, Town of, Essex County | 250083 | June 19, 1975, Emerg; October 1, 1980, Reg; July 3, 2012, Susp. | ......do | Do.
Hamilton, Town of, Essex County | 250084 | N/A, Emerg; July 26, 1993, Reg; July 3, 2012, Susp. | ......do | Do.
Haverhill, City of, Essex County | 250085 | April 30, 1974, Emerg; February 16, 1993, Reg; July 3, 2012, Susp. | ......do | Do.
Ipswich, Town of, Essex County | 250086 | July 30, 1975, Emerg; August 5, 1985, Reg; July 3, 2012, Susp. | ......do | Do.
Lawrence, City of, Essex County | 250087 | July 2, 1974, Emerg; August 2, 1982, Reg; July 3, 2012, Susp. | ......do | Do.
Lynn, City of, Essex County | 250088 | August 9, 1974, Emerg; February 1, 1985, Reg; July 3, 2012, Susp. | ......do | Do.
Lynnfield, Town of, Essex County | 250089 | September 6, 1974, Emerg; February 1, 1980, Reg; July 3, 2012, Susp. | ......do | Do.
Manchester by the Sea, Town of, Essex County | 250090 | January 15, 1974, Emerg; September 4, 1986, Reg; July 3, 2012, Susp. | ......do | Do.
Marblehead, Town of, Essex County | 250091 | January 16, 1974, Emerg; July 3, 1985, Reg; July 3, 2012, Susp. | ......do | Do.
Merrimac, Town of, Essex County | 250092 | February 7, 1975, Emerg; July 5, 1982, Reg; July 3, 2012, Susp. | ......do | Do.
Methuen, City of, Essex County | 250093 | June 26, 1974, Emerg; July 2, 1980, Reg; July 3, 2012, Susp. | ......do | Do.
Middleton, Town of, Essex County | 250094 | February 19, 1976, Emerg; November 5, 1980, Reg; July 3, 2012, Susp. | ......do | Do.
Nahant, Town of, Essex County | 250095 | September 22, 1972, Emerg; July 19, 1976, Reg; July 3, 2012, Susp. | ......do | Do.
Newbury, Town of, Essex County | 250096 | October 6, 1972, Emerg; March 15, 1977, Reg; July 3, 2012, Susp. | ......do | Do.
Newburyport, City of, Essex County | 250097 | October 6, 1972, Emerg; February 15, 1978, Reg; July 3, 2012, Susp. | ......do | Do.
North Andover, Town of, Essex County | 250098 | July 2, 1975, Emerg; June 15, 1983, Reg; July 3, 2012, Susp. | ......do | Do.
Peabody, City of, Essex County | 250099 | July 29, 1975, Emerg; May 15, 1980, Reg; July 3, 2012, Susp. | ......do | Do.
Rockport, Town of, Essex County | 250100 | July 28, 1975, Emerg; June 19, 1985, Reg; July 3, 2012, Susp. | ......do | Do.
Rowley, Town of, Essex County | 250101 | N/A, Emerg; December 3, 2009, Reg; July 3, 2012, Susp. | ......do | Do.
Salem, City of, Essex County | 250102 | June 23, 1972, Emerg; March 15, 1977, Reg; July 3, 2012, Susp. | ......do | Do.
Salisbury, Town of, Essex County | 250103 | November 17, 1972, Emerg; May 2, 1977, Reg; July 3, 2012, Susp. | ......do | Do.
Saugus, Town of, Essex County | 250104 | August 25, 1975, Emerg; January 19, 1983, Reg; July 3, 2012, Susp. | ......do | Do.
Swampscott, Town of, Essex County | 250105 | September 29, 1972, Emerg; September 3, 1976, Reg; July 3, 2012, Susp. | ......do | Do.
Topsfield, Town of, Essex County | 250106 | September 26, 1975, Emerg; June 4, 1980, Reg; July 3, 2012, Susp. | ......do | Do.
Wenham, Town of, Essex County | 250107 | July 23, 1975, Emerg; June 19, 1989, Reg; July 3, 2012, Susp. | ......do | Do.
West Newbury, Town of, Essex County | 250108 | August 16, 1974, Emerg; June 15, 1979, Reg; July 3, 2012, Susp. | ......do | Do.
Region III
Pennsylvania: Albany, Township of, Berks County | 421046 | November 19, 1975, Emerg; September 30, 1988, Reg; July 3, 2012, Susp. | ......do | Do.
Alsace, Township of, Berks County | 421376 | May 27, 1975, Emerg; April 1, 1981, Reg; July 3, 2012, Susp. | ......do | Do.
Amity, Township of, Berks County | 420124 | April 12, 1973, Emerg; July 18, 1977, Reg; July 3, 2012, Susp. | ......do | Do.
Bally, Borough of, Berks County | 420125 | N/A, Emerg; August 1, 2001, Reg; July 3, 2012, Susp. | ......do | Do.
Bechtelsville, Borough of, Berks County | 420126 | April 7, 1975, Emerg; May 15, 1984, Reg; July 3, 2012, Susp. | ......do | Do.
Bern, Township of, Berks County | 421050 | March 25, 1974, Emerg; November 19, 1980, Reg; July 3, 2012, Susp. | ......do | Do.
Bernville, Borough of, Berks County | 421051 | January 6, 1976, Emerg; January 26, 1983, Reg; July 3, 2012, Susp. | ......do | Do.
Bethel, Township of, Berks County | 421052 | June 19, 1978, Emerg; July 15, 1988, Reg; July 3, 2012, Susp. | ......do | Do.
Birdsboro, Borough of, Berks County | 420127 | December 29, 1972, Emerg; December 18, 1979, Reg; July 3, 2012, Susp. | ......do | Do.
Boyertown, Borough of, Berks County | 420128 | July 18, 1975, Emerg; June 25, 1976, Reg; July 3, 2012, Susp. | ......do | Do.
Brecknock, Township of, Berks County | 421053 | November 24, 1975, Emerg; June 15, 1981, Reg; July 3, 2012, Susp. | ......do | Do.
Caernarvon, Township of, Berks County | 421055 | November 26, 1974, Emerg; January 16, 1981, Reg; July 3, 2012, Susp. | ......do | Do.
Centerport, Borough of, Berks County | 420129 | August 31, 1978, Emerg; July 16, 1982, Reg; July 3, 2012, Susp. | ......do | Do.
Centre, Township of, Berks County | 421056 | October 4, 1977, Emerg; December 16, 1980, Reg; July 3, 2012, Susp. | ......do | Do.
Colebrookdale, Township of, Berks County | 421057 | May 2, 1975, Emerg; May 1, 1984, Reg; July 3, 2012, Susp. | ......do | Do.
Cumru, Township of, Berks County | 420130 | November 24, 1972, Emerg; January 3, 1979, Reg; July 3, 2012, Susp. | ......do | Do.
District, Township of, Berks County | 421378 | November 21, 1975, Emerg; August 19, 1985, Reg; July 3, 2012, Susp. | ......do | Do.
Exeter, Township of, Berks County | 421063 | September 27, 1974, Emerg; March 15, 1982, Reg; July 3, 2012, Susp. | ......do | Do.
Greenwich, Township of, Berks County | 421067 | August 21, 1975, Emerg; February 17, 1989, Reg; July 3, 2012, Susp. | ......do | Do.
Hamburg, Borough of, Berks County | 420134 | May 1, 1973, Emerg; February 15, 1980, Reg; July 3, 2012, Susp. | ......do | Do.
Heidelberg, Township of, Berks County | 421069 | March 7, 1977, Emerg; May 3, 1990, Reg; July 3, 2012, Susp. | ......do | Do.
Hereford, Township of, Berks County | 421379 | November 20, 1975, Emerg; May 3, 1990, Reg; July 3, 2012, Susp. | ......do | Do.
Jefferson, Township of, Berks County | 421071 | June 24, 1976, Emerg; September 1, 1987, Reg; July 3, 2012, Susp. | ......do | Do.
Kenhorst, Borough of, Berks County | 420135 | December 29, 1972, Emerg; February 15, 1978, Reg; July 3, 2012, Susp. | ......do | Do.
Kutztown, Borough of, Berks County | 420136 | June 30, 1972, Emerg; May 2, 1977, Reg; July 3, 2012, Susp. | ......do | Do.
Leesport, Borough of, Berks County | 420138 | December 26, 1973, Emerg; May 16, 1977, Reg; July 3, 2012, Susp. | ......do | Do.
Lenhartsville, Borough of, Berks County | 420139 | August 25, 1975, Emerg; February 17, 1989, Reg; July 3, 2012, Susp. | ......do | Do.
Longswamp, Township of, Berks County | 421380 | November 24, 1975, Emerg; July 3, 1990, Reg; July 3, 2012, Susp. | ......do | Do.
Lower Heidelberg, Township of, Berks County | 421077 | July 18, 1975, Emerg; August 16, 1982, Reg; July 3, 2012, Susp. | ......do | Do.
Maidencreek, Township of, Berks County | 421078 | June 9, 1975, Emerg; March 16, 1981, Reg; July 3, 2012, Susp. | ......do | Do.
Marion, Township of, Berks County | 421079 | October 28, 1975, Emerg; January 2, 1981, Reg; July 3, 2012, Susp. | ......do | Do.
Maxatawny, Township of, Berks County | 421381 | December 3, 1975, Emerg; November 5, 1980, Reg; July 3, 2012, Susp. | ......do | Do.
Mohnton, Borough of, Berks County | 420142 | January 23, 1974, Emerg; July 2, 1980, Reg; July 3, 2012, Susp. | ......do | Do.
Muhlenberg, Township of, Berks County | 420144 | March 9, 1973, Emerg; September 1, 1977, Reg; July 3, 2012, Susp. | ......do | Do.
New Morgan, Borough of, Berks County | 422755 | N/A, Emerg; April 20, 1998, Reg; July 3, 2012, Susp. | ......do | Do.
North Heidelberg, Township of, Berks County | 421086 | December 23, 1976, Emerg; March 18, 1983, Reg; July 3, 2012, Susp. | ......do | Do.
Oley, Township of, Berks County | 420965 | January 15, 1974, Emerg; September 14, 1990, Reg; July 3, 2012, Susp. | ......do | Do.
Ontelaunee, Township of, Berks County | 420966 | September 5, 1973, Emerg; June 1, 1977, Reg; July 3, 2012, Susp. | ......do | Do.
Penn, Township of, Berks County | 421091 | July 2, 1975, Emerg; July 15, 1988, Reg; July 3, 2012, Susp. | ......do | Do.
Perry, Township of, Berks County | 421093 | September 12, 1975, Emerg; August 16, 1982, Reg; July 3, 2012, Susp. | ......do | Do.
Pike, Township of, Berks County | 421382 | December 10, 1974, Emerg; July 18, 1983, Reg; July 3, 2012, Susp. | ......do | Do.
Reading, City of, Berks County | 420145 | October 29, 1971, Emerg; September 29, 1978, Reg; July 3, 2012, Susp. | ......do | Do.
Richmond, Township of, Berks County | 421096 | August 28, 1975, Emerg; September 17, 1982, Reg; July 3, 2012, Susp. | ......do | Do.
Robeson, Township of, Berks County | 420146 | December 29, 1972, Emerg; September 3, 1980, Reg; July 3, 2012, Susp. | ......do | Do.
Robesonia, Borough of, Berks County | 420147 | January 21, 1975, Emerg; June 18, 1990, Reg; July 3, 2012, Susp. | ......do | Do.
Rockland, Township of, Berks County | 421098 | July 29, 1975, Emerg; September 2, 1988, Reg; July 3, 2012, Susp. | ......do | Do.
Roscombmanor, Township of, Berks County | 421099 | August 6, 1975, Emerg; February 2, 1989, Reg; July 3, 2012, Susp. | ......do | Do.
Saint Lawrence, Borough of, Berks County | 420151 | June 13, 1975, Emerg; December 16, 1980, Reg; July 3, 2012, Susp. | ......do | Do.
Shillington, Borough of, Berks County | 420148 | November 5, 1971, Emerg; August 1, 1977, Reg; July 3, 2012, Susp. | ......do | Do.
Shoemakersville, Borough of, Berks County | 420149 | March 26, 1974, Emerg; June 15, 1979, Reg; July 3, 2012, Susp. | ......do | Do.
Sinking Spring, Borough of, Berks County | 420150 | May 30, 1974, Emerg; August 16, 1982, Reg; July 3, 2012, Susp. | ......do | Do.
South Heidelberg, Township of, Berks County | 421107 | April 4, 1974, Emerg; May 17, 1990, Reg; July 3, 2012, Susp. | ......do | Do.
Spring, Township of, Berks County | 421108 | June 27, 1974, Emerg; April 18, 1983, Reg; July 3, 2012, Susp. | ......do | Do.
Strausstown, Borough of, Berks County | 420152 | July 31, 1979, Emerg; February 11, 1983, Reg; July 3, 2012, Susp. | ......do | Do.
Tilden, Township of, Berks County | 421112 | April 7, 1975, Emerg; July 16, 1980, Reg; July 3, 2012, Susp. | ......do | Do.
Topton, Borough of, Berks County | 420154 | July 25, 1975, Emerg; July 16, 1990, Reg; July 3, 2012, Susp. | ......do | Do.
Union, Township of, Berks County | 420155 | July 9, 1973, Emerg; August 15, 1977, Reg; July 3, 2012, Susp. | ......do | Do.
Upper Bern, Township of, Berks County | 421118 | May 8, 1979, Emerg; November 5, 1982, Reg; July 3, 2012, Susp. | ......do | Do.
Washington, Township of, Berks County | 421383 | September 12, 1977, Emerg; June 1, 1984, Reg; July 3, 2012, Susp. | ......do | Do.
Wernersville, Borough of, Berks County | 421374 | July 10, 1975, Emerg; August 2, 1982, Reg; July 3, 2012, Susp. | ......do | Do.
West Reading, Borough of, Berks County | 420156 | September 3, 1971, Emerg; March 16, 1976, Reg; July 3, 2012, Susp. | ......do | Do.
Windsor, Township of, Berks County | 421125 | April 17, 1975, Emerg; December 16, 1980, Reg; July 3, 2012, Susp. | ......do | Do.
Womelsdorf, Borough of, Berks County | 420157 | March 7, 1977, Emerg; October 15, 1985, Reg; July 3, 2012, Susp. | ......do | Do.
Region IV
Georgia:
Hamilton, City of, Harris County | 130594 | July 15, 2010, Emerg; N/A, Reg; July 3, 2012, Susp. | ......do | Do.
Harris County, Unincorporated Areas | 130338 | December 3, 1986, Emerg; December 5, 1990, Reg; July 3, 2012, Susp. | ......do | Do.
Hogansville, City of, Troup County | 130176 | June 18, 1975, Emerg; August 4, 1987, Reg; July 3, 2012, Susp. | ......do | Do.
LaGrange, City of, Troup County | 130177 | February 5, 1974, Emerg; December 1, 1978, Reg; July 3, 2012, Susp. | ......do | Do.
Manchester, City of, Meriwether and Talbot Counties | 130225 | December 29, 1975, Emerg; August 5, 1986, Reg; July 3, 2012, Susp. | ......do | Do.
Meriwether County, Unincorporated Areas | 130473 | June 25, 1986, Emerg; July 16, 1990, Reg; July 3, 2012, Susp. | ......do | Do.
Talbot County, Unincorporated Areas | 130396 | May 30, 1979, Emerg; September 4, 1986, Reg; July 3, 2012, Susp. | ......do | Do.
Troup County, Unincorporated Areas | 130405 | September 19, 1975, Emerg; December 5, 1990, Reg; July 3, 2012, Susp. | ......do | Do.
Waverly Hall, Town of, Harris County | 130240 | August 26, 1975, Emerg; August 1, 1986, Reg; July 3, 2012, Susp. | ......do | Do.
West Point, City of, Harris and Troup Counties | 130178 | March 3, 1975, Emerg; January 6, 1983, Reg; July 3, 2012, Susp. | ......do | Do.
Woodland, City of, Talbot County | 130397 | October 28, 1975, Emerg; June 25, 1976, Reg; July 3, 2012, Susp. | ......do | Do.
Tennessee: Benton County, Unincorporated Areas | 470218 | October 4, 1989, Emerg; July 2, 1991, Reg; July 3, 2012, Susp. | ......do | Do.
Big Sandy, Town of, Benton County | 470295 | N/A, Emerg; November 26, 2008, Reg; July 3, 2012, Susp. | ......do | Do.
Camden, City of, Benton County | 470010 | April 2, 1975, Emerg; July 17, 1986, Reg; July 3, 2012, Susp. | ......do | Do.
Region VI
Texas:
Cottonwood, City of, Kaufman County | 480292 | June 18, 2010, Emerg; N/A, Reg; July 3, 2012, Susp. | ......do | Do.
Crandall, City of, Kaufman County | 480409 | March 12, 1992, Emerg; November 1, 1992, Reg; July 3, 2012, Susp. | ......do | Do.
Dallas, City of, Collin, Dallas, Denton, Kaufman and Rockwall Counties | 480171 | June 30, 1970, Emerg; March 16, 1983, Reg; July 3, 2012, Susp. | ......do | Do.
Forney, City of, Kaufman County | 480410 | April 8, 1975, Emerg; August 8, 1978, Reg; July 3, 2012, Susp. | ......do | Do.
Heath, City of, Kaufman and Rockwall County | 480545 | November 11, 1977, Emerg; February 1, 1980, Reg; July 3, 2012, Susp. | ......do | Do.
Kaufman, City of, Kaufman County | 480407 | May 16, 1975, Emerg; August 8, 1978, Reg; July 3, 2012, Susp. | ......do | Do.
Kaufman County, Unincorporated Areas | 480411 | September 26, 1989, Emerg; September 4, 1991, Reg; July 3, 2012, Susp. | ......do | Do.
Kemp, City of, Kaufman County | 480412 | September 16, 1980, Emerg; September 16, 1980, Reg; July 3, 2012, Susp. | ......do | Do.
Mabank, City of, Henderson and Kaufman Counties | 480414 | February 22, 1977, Emerg; August 8, 1978, Reg; July 3, 2012, Susp. | ......do | Do.
McLendon-Chisholm, City of, Kaufman and Rockwall Counties | 480546 | February 21, 1997, Emerg; September 26, 2008, Reg; July 3, 2012, Susp. | ......do | Do.
Mesquite, City of, Dallas and Kaufman Counties | 485490 | July 24, 1970, Emerg; July 30, 1971, Reg; July 3, 2012, Susp. | ......do | Do.
Oak Ridge, Town of, Kaufman County | 481534 | October 5, 2010, Emerg; N/A, Reg; July 3, 2012, Susp. | ......do | Do.
Scurry, City of, Kaufman County | 480241 | October 12, 2010, Emerg; N/A, Reg; July 3, 2012, Susp. | ......do | Do.
Seagoville, City of, Dallas and Kaufman Counties | 480187 | June 25, 1975, Emerg; June 15, 1981, Reg; July 3, 2012, Susp. | ......do | Do.
Seven Points, City of, Henderson and Kaufman Counties | 480332 | N/A, Emerg; August 23, 2001, Reg; July 3, 2012, Susp. | ......do | Do.
Talty, Town of, Kaufman County | 480468 | N/A, Emerg; January 6, 2010, Reg; July 3, 2012, Susp. | ......do | Do.
Terrell, City of, Kaufman County | 480416 | June 18, 1976, Emerg; September 30, 1980, Reg; July 3, 2012, Susp. | ......do | Do.
Region VIII
Colorado: Fremont County, Unincorporated Areas | 080067 | June 25, 1975, Emerg; September 29, 1989, Reg; July 3, 2012, Susp. | ......do | Do.
*do = Ditto.
Code for reading third column: Emerg.—Emergency; Reg.—Regular; Susp.—Suspension.

Dated: June 20, 2012.
David L. Miller,
Associate Administrator, Federal Insurance and Mitigation Administration, Department of Homeland Security, Federal Emergency Management Agency.

[FR Doc. 2012-16348 Filed 7-3-12; 8:45 am]

BILLING CODE 9110-12-P